DEPARTMENT OF THE INTERIOR

Bureau of Reclamation

[RR02142500, 14XR0680A2, RX.08634999.1000000]

Notice of Availability of the Final Resource Management Plan and Environmental Impact Statement for the Contra Loma Reservoir and Recreation Area, Antioch, CA—Central Valley Project

AGENCY: Bureau of Reclamation, Interior.

ACTION: Notice.

SUMMARY: The Bureau of Reclamation (Reclamation) has prepared a Final Resource Management Plan and Environmental Impact Statement (RMP/EIS) for the Contra Loma Reservoir and Recreation Area to establish uniform policy and land management guidelines that promote an organized use, development, and management of the Contra Loma Reservoir and the surrounding recreational area lands.

DATES: Reclamation will not make a decision on the proposed action until at least 30 days after release of the Final RMP/EIS. After the 30-day waiting period, Reclamation will complete a Record of Decision (ROD). The ROD will state the action that will be implemented and will discuss all factors leading to the decision.

ADDRESSES: Written comments on the Final RMP/EIS should be sent to Mr. David Woolley, Bureau of Reclamation, 1243 N Street, SCC-450, Fresno, California, 93720; or via email to dwoolley@usbr.gov.

FOR FURTHER INFORMATION CONTACT: Mr. David Woolley, Bureau of Reclamation, at the above address; via email at dwoolley@usbr.gov; or at (559) 487-5049. The Final RMP/EIS will be available from the following Web site: http://www.usbr.gov/mp/nepa/nepa_projdetails.cfm?Project_ID=6396. See the Supplementary Information section for locations where copies of the Final RMP/EIS are available for public review.

SUPPLEMENTARY INFORMATION: The Final RMP/EIS will guide future land resources management to ensure land and waters of the United States are maintained and protected as provided for under the authorizing purposes over a given period of time. This process is intended to establish uniform policy and land management guidelines that promote an organized use, development, and management of the Contra Loma Reservoir and the surrounding recreational area lands. These areas will be compatible with scenic surroundings and applicable Federal and State laws. An RMP incorporates into one document all the information pertinent to the future guidance of a management area and may serve as, but not limited to, the basis for future resource decision making for the management area. The RMP is to chart the biological, physical, and social condition that Reclamation desires to see once all the RMP management actions have been implemented. In addition, the RMP provides sufficient detailed ways to efficiently and equitably provide recreational opportunities to meet public demand within its intended planning lifespan.

A Notice of Availability of the Draft EIS/EIR was published in the Federal Register on May 2, 2014 (79 FR 25151). The comment period on the Draft RMP/EIS ended on July 1, 2014. The Final RMP/EIS contains responses to all comments received and reflects comments and any additional information received during the review period.

Copies of the RMP/FEIS are available for public review at the following locations:

• Antioch Library, Antioch, CA 94509.

• Natural Resources Library, Department of the Interior, 1849 C Street NW.,

Main Interior Building, Washington, DC 20240.

• Bureau of Reclamation, South Central California Area Office, 1243 N Street, Fresno, CA 93720.

• Mid-Pacific Regional Library, Bureau of Reclamation, 2800 Cottage Way, Sacramento, CA 95825.

Public Disclosure

Before including your address, phone number, email address, or other personal identifying information in any correspondence, you should be aware that your entire correspondence—including your personal identifying information—may be made publicly available at any time. While you can ask us in your correspondence to withhold your personal identifying information from public review, we cannot guarantee that we will be able to do so.

Dated. August 14, 2014.
Brenda Bryant,
Assistant Regional Director, Mid-Pacific Region.

[FR Doc. 2014-22350 Filed 9-18-14; 8:45 am]

BILLING CODE 4310-MN-P